DEPARTMENT OF AGRICULTURE

Forest Service

South Pyramid Timber Sales, Willamette National Forest, Linn County, OR

AGENCY: Forest Service, USDA.

ACTION: Cancellation notice.

SUMMARY: August 2, 1999, a Notice of Intent (NOI) to prepare an environmental impact statement for the South Pyramid Timber Sales on the Sweet Home Ranger District of the Willamette National Forest, was published in the Federal Register (64 FR 41912). The 1999 NOI is hereby rescinded.

FOR FURTHER INFORMATION CONTACT: Brian McGinley, Resource Planner, Sweet Home Ranger District, 3225 Highway 22, Sweet Home, Oregon 97386; phone 541-367-5168.

Dated: September 19, 2002.
Michael Rassbach,
District Ranger.

[FR Doc. 02-25375 Filed 10-4-02; 8:45 am]

BILLING CODE 3410--11-M